DEPARTMENT OF DEFENSE

48 CFR Parts 211, 212, and 252

[DFARS Case 2004-D011]

Defense Federal Acquisition Regulation Supplement; Radio Frequency Identification

AGENCY: Department of Defense (DoD).

ACTION: Proposed rule with request for comments.

SUMMARY: DoD is proposing to amend the Defense Federal Acquisition Regulation Supplement (DFARS) to add policy pertaining to package marking with passive radio frequency identification (RFID) tags. The proposed changes require contractors to affix passive RFID tags at the case and palletized unit load levels when shipping packaged operational rations, clothing, individual equipment, tools, personal demand items, or weapon system repair parts, to the Defense Distribution Depot in Susquehanna, PA, or the Defense Distribution Depot in San Joaquin, CA.

DATES: Comments on the proposed rule should be submitted in writing to the address shown below on or before June 20, 2005, to be considered in the formation of the final rule.

ADDRESSES: You may submit comments, identified by DFARS Case 2004-D011, using any of the following methods:

• Federal eRulemaking Portal: http://www.regulations.gov. Follow the instructions for submitting comments.

• Defense Acquisition Regulations Web site: http://emissary.acq.osd.mil/dar/dfars.nsf/pubcomm. Follow the instructions for submitting comments.

• E-mail: dfars@osd.mil. Include DFARS Case 2004-D011 in the subject line of the message.

• Fax: (703) 602-0350.

• Mail: Defense Acquisition Regulations Council, Attn: Ms. Michele Peterson, OUSD(AT&L)DPAP(DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Ms. Michele Peterson, (703) 602-0311.

SUPPLEMENTARY INFORMATION:

A. Background

This proposed rule contains requirements for contractors to affix passive RFID tags at the case and palletized unit load levels. The proposed rule requires that specified commodities delivered to specified DoD locations be tagged with a readable passive RFID tag in accordance with the applicable implementation plan at http://www.dodrfid.org/supplierimplementationplan.htm. The data encoding schemes that contractors may write to the tags are identified in the proposed clause and are also located at http://www.dodrfid.org/tagdata.htm. In addition, contractors must send an advance shipment notice in accordance with the procedures at http://www.dodrfid.org/asn.htm, to provide the association between the unique identification encoded on the passive tag(s) and the product information at the applicable case and palletized unit load levels.

DoD is particularly interested in receiving comments on the following aspects of the rule:

1. The definitions of the terms “case” and “palletized unit load” and their use throughout the rule.

2. The impact of providing electronic advance shipment notice information.

3. Whether small business considerations have been fully addressed in the regulatory flexibility analysis.

4. Scientific, industry, or manufacturing based evidence from changes or additions to packaging or package systems in order to assess the possible impact, if any, on the environment and materials recycling, including corrugated, metal, and plastic shipping containers and pallets.

5. What are the options for minimizing and mitigating the impacts on the materials recycling process from the use of RFID tags on shipping containers and pallets?

This rule was subject to Office of Management and Budget review under Executive Order 12866, dated September 30, 1993.

B. Regulatory Flexibility Act

This proposed rule may have an impact on a substantial number of small entities within the meaning of the Regulatory Flexibility Act, 5 U.S.C. 601, et seq. DoD has prepared a separate initial regulatory flexibility analysis, available at http://www.dodrfid.org/regflex.htm, which is summarized as follows:

This proposed rule adds requirements for DoD contractors supplying materiel to the Department to affix passive RFID tags at the case and palletized unit load levels for specified commodities delivered to specified DoD locations. To create an automated and sophisticated end-to-end supply chain, DoD is dependent upon initiating the technology at the point of origin, the DoD commercial suppliers. Without the assistance of the DoD supplier base to begin populating the DoD supply chain with passive RFID tags, a fully integrated, highly visible, automated end-to-end supply chain is untenable. DoD contractors are presently required to print and affix military shipping labels to every package delivered to DoD. Options to comply with the requirements of the proposed rule can be as simple as replacing existing military shipping label printers with RFID-enabled printers. This will allow DoD contractors to print military shipping labels with embedded RFID tags. The regulatory flexibility analysis also details other options and approximate costs to comply. The proposed rule will also require contractors to provide an electronic advance shipment notice in accordance with the procedures at http://www.dodrfid.org/asn.htm, to associate RFID tag data with the corresponding shipment. The objective of the rule is to improve visibility of DoD assets in the supply chain, increase accuracy of shipments and receipts, and reduce the number of logistic “touch points” in order to decrease the amount of time it takes to deliver material to the warfighter. The rule does not duplicate, overlap, or conflict with any other Federal rules.

C. Paperwork Reduction Act

This proposed rule contains a new information collection requirement. DoD has submitted the following proposal to OMB under the provisions of the Paperwork Reduction Act (44 U.S.C. Chapter 35). Comments are invited on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

Title: Defense Federal Acquisition Regulation Supplement (DFARS); Radio Frequency Identification Advance Shipment Notices.

Type of Request: New requirement.

Number of Respondents: 17,000.

Responses Per Respondent: 3,981.

Annual Responses: 67,677,000.

Average Burden Per Response: Approximately 1.12 seconds.

Annual Burden Hours: 21,038.

Needs and Uses: DoD needs an advance shipment notice prior to shipment of materiel containing RFID tag data. DoD receiving personnel use the advance shipment notice to associate the unique identification encoded on the RFID tag with the corresponding shipment. Use of RFID technology permits DoD to create an automated and sophisticated end-to-end supply chain, thereby increasing visibility of assets and permitting delivery of supplies to the warfighter more quickly.

Affected Public: Businesses or other for-profit and not-for-profit institutions.

Frequency: On occasion.

Respondent's Obligation: Required to obtain or retain benefits.

OMB Desk Officer: Mr. Lewis Oleinick.

Written comments and recommendations on the proposed information collection should be sent to Mr. Oleinick at the Office of Management and Budget, Desk Officer for DoD, Room 10236, New Executive Office Building, Washington, DC 20503, with a copy to the Defense Acquisition Regulations Council, Attn: Ms. Michele Peterson, OUSD(AT&L)DPAP(DAR), IMD 3C132, 3062 Defense Pentagon, Washington, DC 20301-3062. Comments can be received from 30 to 60 days after the date of this notice, but comments to OMB will be most useful if received by OMB within 30 days after the date of this notice.

To request more information on this proposed information collection or to obtain a copy of the proposal and associated collection instruments, please write to Defense Acquisition Regulations Council, Attn: Ms. Michele Peterson, OUSD(AT&L)DPAP(DAR), IMD 3C132, 3062 Defense Pentagon, Washington, DC 20301-3062.

List of Subjects in 48 CFR Parts 211, 212, and 252

Government procurement.

Michele P. Peterson,
Editor, Defense Acquisition Regulations System.

Therefore, DoD proposes to amend 48 CFR parts 211, 212, and 252 as follows:

1. The authority citation for 48 CFR parts 211, 212, and 252 continues to read as follows:

Authority: 41 U.S.C. 421 and 48 CFR Chapter 1.

PART 211—DESCRIBING AGENCY NEEDS

2. Sections 211.275 through 211.275-3 are added to read as follows:

211.275 Radio frequency identification.

211.275-1 Definitions.

Bulk commodities, case, palletized unit load, passive RFID tag, and radio frequency identification are defined in the clause at 252.211-7XXX, Radio Frequency Identification.

211.275-2 Policy.

Radio frequency identification (RFID), in the form of a passive RFID tag, is required for individual cases and palletized unit loads that—

(a) Contain items in any of the following classes of supply, as defined in DoD 4140.1-R, DoD Supply Chain Materiel Management Regulation, AP1.1.11, except that bulk commodities are excluded from this requirement:

(1) Subclass of Class I—Packaged operational rations.

(2) Class II—Clothing, individual equipment, tentage, organizational tool kits, hand tools, and administrative and housekeeping supplies and equipment.

(3) Class VI—Personal demand items (non-military sales items).

(4) Class IX—Repair parts and components including kits, assemblies and subassemblies, reparable and consumable items required for maintenance support of all equipment, excluding medical-peculiar repair parts; and

(b) Will be delivered to one of the following locations:

(1) Defense Distribution Depot, Susquehanna, PA.

(2) Defense Distribution Depot, San Joaquin, CA.

211.275-3 Contract clause.

Use the clause at 252.211-7XXX, Radio Frequency Identification, in solicitations for contracts that will require delivery of items meeting the criteria at 211.275-2.

PART 212—ACQUISITION OF COMMERCIAL ITEMS

3. Section 212.301 is amended by adding paragraph (f)(vii) to read as follows:

212.301 Solicitation provisions and contract clauses for the acquisition of commercial items.

(f) * * *

(vii) Use the clause at 252.211-7XXX, Radio Frequency Identification, as prescribed in 211.275-3.

PART 252—SOLICITATION PROVISIONS AND CONTRACT CLAUSES

4. Section 252.211-7XXX is added to read as follows:

252.211-7XXX Radio Frequency Identification.

As prescribed in 211.275-3, use the following clause:

Radio Frequency Identification (XXX 2005)

(a) Definitions. As used in this clause—

Advance shipment notice means an electronic notification used to list the contents of a shipment of goods as well as additional information relating to the shipment, such as order information, product description, physical characteristics, type of packaging, marking, carrier information, and configuration of goods within the transportation equipment.

Bulk commodities means the following commodities, when shipped in rail tank cars, tanker trucks, trailers, other bulk wheeled conveyances, or pipelines:

(1) Sand.

(2) Gravel.

(3) Bulk liquids (water, chemicals, or petroleum products).

(4) Ready-mix concrete or similar construction materials.

(5) Coal or combustibles such as firewood.

(6) Agricultural products such as seeds, grains, or animal feed.

Case means either an exterior container within a palletized unit load or an individual shipping container.

Electronic Product Code ™ (EPC) means an identification scheme for universally identifying physical objects via RFID tags and other means. The standardized EPC data consists of an EPC (or EPC identifier) that uniquely identifies an individual object, as well as an optional filter value when judged to be necessary to enable effective and efficient reading of the EPC tags. In addition to this standardized data, certain classes of EPC tags will allow user-defined data. The EPC tag data standards will define the length and position of this data, without defining its content.

EPCglobal ™ means a joint venture between EAN International and the Uniform Code Council to establish and support the EPC network as the global standard for immediate, automatic, and accurate identification of any item in the supply chain of any company, in any industry, anywhere in the world.

Exterior container means a MIL-STD-129 defined container, bundle, or assembly that is sufficient by reason of material, design, and construction to protect unit packs and intermediate containers and their contents during shipment and storage. It can be a unit pack or a container with a combination of unit packs or intermediate containers. An exterior container may not be used as a shipping container.

Palletized unit load means a MIL-STD-129 defined quantity of items, packed or unpacked, arranged on a pallet in a specified manner and secured, strapped, or fastened on the pallet so that the whole palletized load is handled as a single unit. A palletized load is not considered to be a shipping container.

Passive RFID tag means a tag that reflects energy from the reader/interrogator or that receives and temporarily stores a small amount of energy from the reader/interrogator signal in order to generate the tag response. Acceptable tags are—

(1) EPC Class 0 passive RFID tags that meet the EPCglobal Class 0 specification;

(2) EPC Class 1 passive RFID tags that meet the EPCglobal Class 1 specification; and

(3) EPC UHF Generation 2 passive RFID tags that meet the EPCglobal UHF Generation 2 specification.

Radio Frequency Identification (RFID) means an automatic identification and data capture technology comprising one or more reader/interrogators and one or more radio frequency transponders in which data transfer is achieved by means of suitably modulated inductive or radiating electromagnetic carriers.

Shipping container means a MIL-STD-129 defined exterior container that meets carrier regulations and is of sufficient strength, by reason of material, design, and construction, to be shipped safely without further packing (e.g., wooden boxes or crates, fiber and metal drums, and corrugated and solid fiberboard boxes).

(b)(1) Except as provided in paragraph (b)(2) of this clause, the Contractor shall affix passive RFID tags, at the case and palletized unit load packaging levels, for shipments of items that—

(i) Are in any of the following classes of supply, as defined in DoD 4140.1-R, DoD Supply Chain Materiel Management Regulation, AP1.1.11:

(A) Subclass of Class I—Packaged operational rations.

(B) Class II—Clothing, individual equipment, tentage, organizational tool kits, hand tools, and administrative and housekeeping supplies and equipment.

(C) Class VI—Personal demand items (non-military sales items).

(D) Class IX—Repair parts and components including kits, assemblies and subassemblies, reparable and consumable items required for maintenance support of all equipment, excluding medical-peculiar repair parts; and

(ii) Are being shipped to—

(A) Defense Distribution Depot, Susquehanna, PA; or

(B) Defense Distribution Depot, San Joaquin, CA.

(2) Bulk commodities are excluded from the requirements of paragraph (b)(1) of this clause.

(c) The Contractor shall ensure that—

(1) The data encoded on each passive RFID tag are unique (i.e., the binary number is never repeated on any contract) and conforms to the requirements in paragraph (d) of this clause;

(2) Each passive tag is readable at the time of shipment in accordance with MIL-STD-129P (Section 4.9.1.1) readability performance requirements; and

(3) The passive tag is affixed at the appropriate location on the specific level of packaging, in accordance with MIL-STD-129P (Section 4.9.2) tag placement specifications.

(d) Data syntax and standards. The Contractor shall use one or more of the following data constructs, depending upon the type of passive RFID tag being used in accordance with the tag construct details located at http://www.dodrfid.org/tagdata.htm (version in effect as of the date of the solicitation):

(1) Class 0, 64 Bit Tag—EPCglobal Serialized Global Trade Item Number (SGTIN), Global Returnable Asset Identifier (GRAI), Global Individual Asset Identifier (GIAI), or Serialized Shipment Container Code (SSCC).

(2) Class 0, 64 Bit Tag—DoD Tag Construct.

(3) Class 1, 64 Bit Tag—EPCglobal SGTIN, GRAI, GIAI, or SSCC.

(4) Class 1, 64 Bit Tag—DoD Tag Construct.

(5) Class 0, 96 Bit Tag—EPCglobal SGTIN, GRAI, GIAI, or SSCC.

(6) Class 0, 96 Bit Tag—DoD Tag Construct.

(7) Class 1, 96 Bit Tag—EPCglobal SGTIN, GRAI, GIAI, or SSCC.

(8) Class 1, 96 Bit Tag—DoD Tag Construct.

(9) UHF Generation 2 Tag—EPCglobal SGTIN, GRAI, GIAI, SSCC.

(10) UHF Generation 2 Tag—DoD Tag Construct.

(e) Receiving report. The Contractor shall electronically submit advance shipment notice(s) with the RFID tag identification (specified in paragraph (d) of this clause) in advance of the shipment in accordance with the procedures at http://www.dodrfid.org/asn.htm.

(End of clause)

[FR Doc. 05-7978 Filed 4-20-05; 8:45 am]

BILLING CODE 5001-08-P